DEPARTMENT OF ENERGY

Federal Energy Regulatory Commission

Combined Notice of Filings #2

Take notice that the Commission received the following electric rate filings:

Docket Numbers: ER16-337-000.

Applicants: AEP Texas North Company.

Description: § 205(d) Rate Filing: TNC-Rattlesnake Power SUA to be effective 10/30/2015.

Filed Date: 11/17/15.

Accession Number: 20151117-5100.

Comments Due: 5 p.m. ET 12/8/15.

Docket Numbers: ER16-338-000.

Applicants: Southern California Edison Company.

Description: § 205(d) Rate Filing: Service Agreement with Pristine Sun Fund 9, LLC to be effective 1/17/2016.

Filed Date: 11/17/15.

Accession Number: 20151117-5107.

Comments Due: 5 p.m. ET 12/8/15.

Docket Numbers: ER16-339-000.

Applicants: PJM Interconnection, L.L.C.

Description: § 205(d) Rate Filing: Revisions to OATT and OA re eMarket to Markets Gateway Change to be effective 1/18/2016.

Filed Date: 11/17/15.

Accession Number: 20151117-5118.

Comments Due: 5 p.m. ET 12/8/15.

Docket Numbers: ER16-340-000.

Applicants: Midcontinent Independent System Operator, Inc.

Description: § 205(d) Rate Filing: 2015-11-17_SA 2869 ATC Briggs Rd-N. Madison T-TIA to be effective 10/30/2015.

Filed Date: 11/17/15.

Accession Number: 20151117-5135.

Comments Due: 5 p.m. ET 12/8/15.

Docket Numbers: ER16-341-000.

Applicants: RE Astoria LLC.

Description: Baseline eTariff Filing: Application for MBR to be effective 1/18/2016.

Filed Date: 11/17/15.

Accession Number: 20151117-5145.

Comments Due: 5 p.m. ET 12/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2015.
Nathaniel J. Davis, Sr.,
Deputy Secretary.

[FR Doc. 2015-29752 Filed 11-20-15; 8:45 am]

BILLING CODE 6717-01-P